DEPARTMENT OF EDUCATION

Applications for New Awards; Rehabilitation Training: Disability Innovation Fund—Career Advancement Initiative Model Demonstration Project

AGENCY: Office of Special Education and Rehabilitative Services, Department of Education.

ACTION: Notice.

SUMMARY: The U.S. Department of Education (Department) is issuing a notice inviting applications for fiscal year (FY) 2021 for the Disability Innovation Fund—Career Advancement Initiative Model Demonstration Project, Assistance Listing Number 84.421C. The Department intends to fund a multi-site model demonstration project designed to assist State vocational rehabilitation (VR) agencies, in partnership with other entities, to develop career pathways focused on career advancement. This competition will help VR-eligible individuals with disabilities, including previously served VR participants in employment who re-enter the VR program, to advance in high-demand, high-quality careers, such as science, technology, engineering, and math (STEM), including computer science, careers; to enter career pathways in industry-driven sectors through pre-apprenticeships, registered apprenticeships and Industry Recognized Apprenticeship Program (IRAP); to improve and maximize competitive integrated employment outcomes, economic self-sufficiency, independence, and inclusion in society; and to reduce reliance on public benefits (e.g., Supplemental Security Income (SSI)/Social Security Disability Insurance (SSDI), and/or Temporary Assistance for Needy Families (TANF), and State or local benefits). This notice relates to the approved information collection under OMB control number 1820-0018.

DATES:

Applications Available: January 7, 2021.

Deadline for Transmittal of Applications: April 7, 2021.

Date of Pre-Application Meeting: The Office of Special Education and Rehabilitative Services (OSERS) will post a PowerPoint presentation that provides general information about the Rehabilitation Services Administration's (RSA) discretionary grants and a PowerPoint presentation specifically about the Disability Innovation Fund—Career Advancement Initiative Model Demonstration Projects at https://ncrtm.ed.gov/RSAGrantInfo.aspx. OSERS will conduct a pre-application meeting specific to this competition via conference call to respond to questions. Information about the pre-application meeting will be available at https://ncrtm.ed.gov/RSAGrantInfo.aspx prior to the date of the call. OSERS invites you to send questions to 84.421C@ed.gov in advance of the pre-application meeting. The teleconference information, including the 84.421C pre-application meeting summary of the questions and answers, will be available at https://ncrtm.ed.gov/RSAGrantInfo.aspx within six days after the pre-application meeting.

Deadline for Intergovernmental Review: May 7, 2021.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Cassandra P. Shoffler, U.S. Department of Education, 400 Maryland Avenue SW, Room 5065A, Potomac Center Plaza, Washington, DC 20202-2800. Telephone: (202) 245-7827. Email: 84.421C@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the Disability Innovation Fund (DIF) Program, as provided by the Further Consolidated Appropriations Act, 2020 (Pub. L. 116-94), is to support innovative activities aimed at improving the outcomes of individuals with disabilities, as defined in section 7(20)(B) of the Rehabilitation Act of 1973, as amended, including activities aimed at improving the education and post-school outcomes of children receiving SSI and their families that may result in long-term improvement in the SSI child recipient's economic status and self-sufficiency.

Priorities: This competition contains an absolute priority and an invitational priority. We are establishing the absolute priority for the FY 2021 grant competition, and any subsequent year in which we make awards from the list of unfunded applications from this competition, in accordance with section 437(d)(1) of the General Education Provisions Act (GEPA), 20 U.S.C. 1232(d)(1).

Absolute Priority: This priority is an absolute priority. Under 34 CFR 75.105(c)(3), we consider only applications that meet this priority.

This priority is:

Career Advancement Initiative Model Demonstration Project.

Background:

Though always permissible under the Vocational Rehabilitation (VR) program, the amendments to the Rehabilitation Act of 1973 (Rehabilitation Act) made by the Workforce Innovation and Opportunity Act (WIOA) clarified and emphasized that individuals with disabilities were eligible for VR services for the purpose of advancing in employment. Among the stated purposes of WIOA, Congress included—

To improve the quality and labor market relevance of workforce investment, education, and economic development efforts to provide America's workers with the skills and credentials necessary to secure and advance in employment with family-sustaining wages.

WIOA Section 2, Paragraph (3); 29 U.S.C. 3101(3) (emphasis added). As such, the VR program is not solely intended to place individuals with disabilities in entry-level jobs, but, rather, to assist them to obtain, retain, advance in, or regain employment, consistent with their unique strengths, resources, priorities, concerns, abilities, capabilities, and informed choice, through the services and supports identified on their individualized plans for employment (IPE).

While the VR program has a long history of helping individuals with disabilities secure employment, there is room for improvement in helping individuals with disabilities move off of public benefits and advance in employment, which as used in section 102(a)(1)(B) of the Rehabilitation Act, includes both advancing within current employment and advancing into new employment.

Our examination of RSA-911 data for program year (PY) 2019, located at https://rsa.ed.gov/performance-data/rsa-911-policy-directive, demonstrates that, of 361,421 new applicants, 105,760 (29 percent) reported their primary source of support as SSI, SSDI, or TANF. Of the 128,866 individuals who exited the VR program in competitive integrated employment (CIE), 15,233 (12 percent) indicated that their primary source of support was still SSI, SSDI, or TANF.

The U.S. Department of Labor Federal Minimum Wage website, https://www.dol.gov/general/topic/wages/minimumwage, indicates that the Federal minimum wage for covered nonexempt employees is $7.25 per hour. There are numerous States with minimum wage laws. In cases where an employee is subject to both the State and Federal minimum wage laws, the employee is entitled to the higher of the two minimum wages. Participants who exited the VR program in CIE reported a median wage of $12 per hour and median 30 hours worked per week. Approximately 80 percent of participants earned less than $17 per hour. Of the 128,866 individuals who exited the VR program in CIE, 28,926 (22 percent) indicated that they had private insurance through their employer and 3,309 (3 percent) indicated that they were not yet eligible for private insurance through their employer.

The 10 most common occupations, reported by fully one third of the participants who exited in CIE, were:

1. Stock Clerks and Order Fillers;

2. Customer Service Representatives;

3. Janitors and Cleaners, Except Maids and Housekeeping Cleaners;

4. Laborers and Freight, Stock, and Material Movers, Hand;

5. Retail Salespersons;

6. Cashiers;

7. Combined Food Preparation and Serving Workers, including Fast Food;

8. Food Preparation Workers;

9. Production Workers, All Other; and

10. Dishwashers.

Wages at this level, in combination with less than full-time work in these positions and without employer-provided medical benefits, provide little opportunity for individuals to reduce their reliance on public benefits (e.g., SSI, SSDI, and/or TANF, and State or local benefits), and the wages suggest that there is room for many individuals with disabilities to advance in employment and their careers. To emphasize the point, individuals who earned $20 per hour or more reported their top five occupations as:

1. Registered Nurses;

2. Heavy and Tractor-Trailer Truck Drivers;

3. Managers, All Other;

4. Teachers and Instructors, All Other; and

5. Accountants and Auditors.

The Department believes that career pathways provide a mechanism for VR agencies to assist VR eligible individuals with disabilities, including previously served VR participants in employment who re-enter the VR program, to obtain or advance in employment or change careers.

In FY 2015, RSA awarded four Career Pathways for Individuals with Disabilities projects under the Demonstration and Training program. Early results from States that received these awards are encouraging. In 2015, Nebraska VR created the Career Pathways Advancement Project and employed the upskill/backfill model of career pathways advancement for their former VR participants in five career pathways based upon the State's economy's needs: Information Technology; Manufacturing; Transportation, Distribution, and Logistics; Healthcare; and Architecture/Construction (Moore, D., Haines, K., Drudik, J., Arter, Z., and Foley, S. (2020). Upskill/Backfill Model of Career Pathways Advancement: The Nebraska Vocational Rehabilitation Approach. Journal of Applied Rehabilitation Counseling, 51(3), 1-14). The results of Nebraska's project demonstrate that this model does assist former clients in advancing in their careers, as well as obtaining CIE that comes with higher income and benefits (Moore et al., 2020). As former clients are increasing their skills or “getting upskilled” (e.g., through credentialed training programs) and advancing in their careers, new clients can fill the newly vacated positions (Moore et al., 2020). In Georgia, the project focused on expanding pre-employment transition services to students with disabilities and transition services to VR eligible students, thereby increasing the number of participants who achieved a recognized post-secondary credential from 12 in FY 2016 to 353 in FY 2020. In Kentucky, the focus was on career pathways STEM events, employer engagement, and workforce partnerships, which resulted in an increase in employment outcomes from 168 in FY 2017 to 294 in FY 2019. In Virginia, the focus was on sustainable strategies, including business-driven strategies and credential training, which resulted in an increase in the number of credentials obtained from 8 in FY 2016 to 56 in FY 2020 and an increase in the number of individuals whose cases were closed in competitive integrated employment outcomes from 7 in FY 2016 to 32 in FY 2020.

Further, Congress made career pathways a necessary, if not foundational, part of WIOA's workforce reforms. States, for example, are required to include career pathways in their workforce development systems, WIOA section 101(d)(3)(B); career pathways are required in training programs, WIOA section 101(d)(5)(C); and local workforce development boards are required to include career pathways in their local plans, WIOA sections 107(d)(5), 108(b)(3).

As earning a degree or certificate may be part of a successful career pathway, RSA-911 data show that while many VR customers are pursuing degrees or certificates, there are opportunities for many more to do so. Of the 875,275 individuals in receipt of VR services through an IPE during PY 2019, 154,239 participants (18 percent) were enrolled in some form of postsecondary education or career/technical training, 80,916 (9 percent) received either Associate, Bachelor, or Graduate School training, 31,258 (4 percent) received vocational training and 194 participants were taking part in Registered Apprenticeship Training.

This competition will provide an opportunity and flexibility for a State VR agency, given additional funding and the full range of resources available through the VR program, to demonstrate the effectiveness of providing the career pathways services needed by VR-eligible individuals, including those participating in the VR program and those who are not receiving services in the VR program for reasons such as assignment to closed priority categories under an order of selection. This includes previously served VR participants in employment who re-enter the VR program, to obtain, change careers to, advance in, or maximize employment in fields that provide a true living wage and freedom from public support.

VR agencies, whether applying alone or in a consortium with multiple State VR agencies, must implement career advancement initiative model demonstration projects by establishing career pathway and work-based learning partnerships with employers, community colleges and postsecondary institutions, entities that make up the workforce development systems, entities that provide registered apprenticeships, pre-apprenticeships and IRAPs, comprehensive rehabilitation centers, local or State educational agencies (LEAs or SEAs), and providers or other Federal or State agencies (i.e., State Apprenticeships Programs, Employment Networks under Social Security, Department of Labor, etc.), as appropriate to the career pathway or pathways chosen and the industries or types of professions served. The models must be implemented at multiple local sites to ensure replicability and delivered through a coordinated system.

Assistance to individuals could include, as appropriate for the individual, pre-apprenticeship, registered apprenticeship and IRAP training or postsecondary training and graduate-level postsecondary education, registered apprenticeships in formal trades, other work-based learning experiences, community college and technical college education and training, or other appropriate training and education opportunities to achieve the advancement in employment specified as the individual's vocational goal.

In sum, this competition is designed to help VR-eligible individuals with disabilities, including previously served VR participants in employment who re-enter the VR program, to advance in or change to high-demand, high-quality careers, such as STEM careers.¹ This also includes individuals who enter career pathways in industry-driven sectors through pre-apprenticeships, registered apprenticeships and IRAPs; to improve and maximize CIE outcomes, economic self-sufficiency, independence, and inclusion in society; and to reduce reliance on public benefits (e.g., Supplemental Security Income (SSI)/Social Security Disability Insurance (SSDI)).

¹ This competition is aligned with the aims of the Federal Government's five-year strategic plan for STEM education entitled Charting A Course for Success: America's Strategy for STEM Education (Plan) published in December 2018, including the Plan's overarching goal to Increase Diversity, Equity, and Inclusion in STEM. https://www.whitehouse.gov/wp-content/uploads/2018/12/STEM-Education-Strategic-Plan-2018.pdf.

Priority:

This priority establishes model demonstration projects in which State vocational rehabilitation (VR) agencies, whether applying alone or in a consortium, by developing and using career pathways, will assist VR eligible individuals with disabilities, including previously served VR participants in employment who re-enter the VR program, to advance in their careers. Projects should help these individuals obtain promotional opportunities with a current employer or a different employer; obtain additional responsibility and compensation by advancing in a formal career or job series; obtain industry recognized credentials that result in additional responsibilities, compensation, and benefits; improve and maximize CIE outcomes, economic self-sufficiency, independence, and inclusion in society; and/or reduce reliance on public benefits (e.g., SSI, SSDI, and/or TANF, and State or local benefits).

As used in this competition, career pathway means a combination of rigorous and high-quality education, training, and other services that—

(a) Aligns with the skill needs of industries in the economy of the State or regional economy involved;

(b) Prepares an individual to be successful in any of a full range of secondary or postsecondary education options, including apprenticeships registered under the Act of August 16, 1937 (commonly known as the “National Apprenticeship Act”; 50 Stat. 664, chapter 663; 29 U.S.C. 50 et seq.);

(c) Includes counseling to support an individual in achieving the individual's education and career goals;

(d) Includes, as appropriate, education offered concurrently with and in the same context as workforce preparation activities and training for a specific occupation or occupational cluster;

(e) Organizes education, training, and other services to meet the particular needs of an individual in a manner that accelerates the educational and career advancement of the individual to the extent practicable;

(f) Enables, as appropriate, an individual to attain a secondary school diploma or its recognized equivalent, and at least one recognized postsecondary credential; and

(g) Helps an individual enter or advance within a specific occupation or occupational cluster (i.e., a group of occupations and broad industries based on common knowledge and skills, job requirements, or worker characteristics).

Project Requirements: Under this priority, the model demonstration proposed by an applicant must, at a minimum—

(a) Develop and implement a collaborative model that demonstrates a rationale ² in the use of career pathways to enable VR eligible individuals with disabilities, including previously served VR participants in employment who re-enter the VR program, to advance in their careers, such as obtaining promotional opportunities with a current employer or a different employer; obtaining additional responsibility and compensation by advancing in a formal career or job series; increasing the number of hours worked; and obtaining industry recognized credentials that result in additional responsibilities, compensation, and benefits;

² For purposes of this priority, “demonstrates a rationale” means a key project component included in the project's logic model is informed by research or evaluation findings that suggest the project component is likely to improve relevant outcomes, as defined in 34 CFR 77.1.

(1) The model project must involve providing access to existing career pathways, creating a new pathway, or both;

(2) The model project must propose multiple partnerships and multiple pathways to serve different populations, provided that the applicant identify any separate personnel, activities, and budgets;

(3) The model project must propose to serve diverse geographic regions, including urban, suburban, rural and Tribal communities, if applicable.

(b) Establish partnerships between the VR agencies and appropriate employers, agencies, and entities that are critical to the development of the career pathway or pathways used in the model. These partnerships could include two-year and four-year institutions of higher education, American Job Centers, and other workforce training providers, such as registered apprenticeship and pre-apprenticeship providers, comprehensive support service providers, and on-the-job and customized training providers);

(c) Include the following career pathway components:

(1) Alignment of secondary and postsecondary education, training, and employment, such as skilled trades and STEM careers important to local, regional, or State economies;

(2) Rigorous, sequential, connected, and efficient curricula that connect education and skills training courses and that integrate education with training, as appropriate;

(3) Multiple entry and exit points for VR participants entering and exiting training;

(4) Comprehensive, coordinated and personalized support services that are designed to ensure the individual's success in completing education and training programs:

(i) Financial literacy, benefits counseling, childcare, physical health and mental health services and transportation;

(ii) Educational supports (e.g., tutors, on-campus supports such as writing labs, math labs, and disability services);

(iii) Self-advocacy training (e.g., mentoring, peer relationships, understanding how to request services and supports); and

(iv) Appropriate assistive technology services and devices;

(5) Flexible design of education and training programs and services to meet the particular needs of VR participants, including flexible work schedules, alternative class times and locations, and the innovative use of technology; and

(6) Education and training programs that focus on advancing in employment and are designed to develop the following knowledge and skills:

(i) Comprehensive career development counseling and guidance, including self-exploration and career exploration and career planning and management;

(ii) Career and technical skills leading to advancement in careers, including the skilled trades and STEM careers; and

(iii) Soft skills (e.g., understanding, communication, teamwork, networking, problem solving, critical thinking and professionalism, learning styles, identifying strengths and weaknesses);

(d) Collaborate with other federally funded career pathway initiatives conducting activities relevant to the work of its proposed project; and

(e) Develop and conduct an evaluation of the project's performance that documents the relationship between participants' engagement with or use of specific practices and strategies implemented by the project and key outcomes.

Application Requirements: Under this priority, to be considered for funding, an application must include the following:

(a) A detailed review of the literature that supports the potential effectiveness of the proposed model, its components, and processes to improve career advancement for individuals with disabilities;

(b) A logic model that communicates how the demonstration project will achieve its outcomes and provides a framework for project evaluation. The logic model must:

(1) Depict, at a minimum, the goals, activities, outputs, and outcomes of the proposed model demonstration project; and

(2) Demonstrate how the specific career pathways components developed and implemented in the project are thought to affect project outcomes. Project activities that demonstrate a rationale and are depicted in the logic model must be specifically noted;

(c) A description of the applicant's plan, methods, and criteria for implementing the project, including a description of—

(1) A cohesive, articulated model of partnership and coordination among the participating agencies and organizations;

(2) The coordinated set of practices and strategies in the use and development of career pathways that are aligned with employment, training, and education programs and reflect the needs of employers and VR-eligible individuals, including previously served VR participants in employment who re-enter the VR program to advance in their careers;

(3) The model demonstration project's proposed sites and targeted occupational clusters, and the proposed criteria for selecting such sites and occupational clusters. State VR agencies applying as a group must also identify the shared geographic area and describe how they will coordinate their project activities, including the data collection and evaluation, within the shared area;

(4) How the proposed project will—

(i) Provide access to existing career pathways, create new pathways, or both, incorporating the six required career pathway components: Secondary and postsecondary education and training aligned with targeted industry sector needs; rigorous, sequential, connected and efficient curricula; multiple entry and exit points; comprehensive support services; flexible design of education, training, work settings and assistive technology; and focus on the attainment of secondary education, recognized postsecondary credentials, sector-specific employment, and related knowledge and skills in order to advance in employment;

(ii) Identify local workforce needs, aligned with the skill needs of targeted industry sectors important to local, regional, or State economies;

(iii) Involve employers in the project design and in partnering with project staff to develop integrated community settings for assessments, job shadowing, internships, apprenticeships, and other paid and unpaid work experiences that are designed to lead to career advancement competitive for individuals with disabilities;

(iv) Provide technical assistance or other resources (e.g., trainings) for employers as needed on topics or strategies related to career advancement for VR eligible individuals with disabilities, including previously served VR participants in employment who re-enter the VR program;

(v) Collaborate with participating agencies and organizations, including career pathway partners; and

(vi) Develop strategies and conduct outreach activities to identify VR-eligible individuals with disabilities, including previously served VR participants in employment who re-enter the VR program, whom the career pathways approach could assist in changing careers or advancing their careers. Note: If a project proposes multiple career pathways, the plan must separately describe the strategies and outreach activities that will be used to identify VR-eligible individuals with disabilities, including previously served VR participants in employment who re-enter the VR program;

(d) A memorandum of understanding between the State VR agency and its proposed partners in developing and implementing the project. In the case of a consortium, the application must also include a signed agreement among the constituent State VR agencies that designates the agency legally authorized to submit the application on behalf of the group; binds each agency to every statement, assurance, and obligation in the application; and details the agencies' assigned roles and responsibilities, in accordance with 34 CFR 75.128 and 75.129;

(e) A plan for evaluating the project's performance, including documenting the relationship between program participation and the project's goals and objectives:

Specifically, the evaluation plan must include a description of—

(1) Project goals, measurable objectives, and operational definitions;

(2) The data to be collected;

(3) How the data will be analyzed; and

(4) How the outcomes for individuals with disabilities served by the project compared with the outcomes of individuals with VR-eligible individuals with disabilities, including previously served VR participants, not receiving project services;

(f) For each career pathway accessed or created through the project, the evaluation plan must provide the following information:

(1) Description of the career pathway, including the respective occupational cluster(s) or career field(s), stackable credentials, and multiple entry/exit points; and

(2) Collection of the following data, at minimum:

(i) The relevant RSA-911 Case Service Report data for each project participant, including disability and other demographic data;

(ii) The number of participants who entered the career pathway;

(iii) The number of participants who completed training in the career pathway;

(iv) The number of participants who attained one or more recognized postsecondary credential and the types of credentials attained;

(v) The number of participants who achieved CIE through the project;

(vi) The corresponding weekly wage and employer-provided medical benefits received by these participants before and after receiving services;

(vii) The corresponding weekly hours worked by these participants before and after receiving services;

(viii) The number of participants who receive a promotion or additional responsibilities resulting in an increase in salary; and;

(ix) The number of participants who report public benefits (e.g., SSI, SSDI, and/or TANF, and State or local benefits) as their primary source of support at the time they exit in CIE;

(g) A plan for systematic dissemination of project findings and knowledge gained that will assist State and local agencies in adapting or replicating the model career pathways developed and implemented by the project. This plan could include elements such as development of a website or community of practice, and participation in national and State conferences;

(h) An assurance that, based on the informed choice of the VR participant, the employment goal for all individuals served under this project will be CIE, including customized or supported employment;

(i) An assurance that the project will collaborate with other federally funded career pathway initiatives conducting activities relevant to its work; and

(j) An assurance that the project will train employers, including businesses, to collaborate with VR on working with employees or trainees with disabilities.

Within this absolute priority, we are particularly interested in applications that address the following invitational priority.

Invitational Priority: Under 34 CFR 75.105(c)(1) we do not give an application that meets this invitational priority a competitive or absolute preference over applications that do not meet the invitational priority.

This priority is:

Career pathway projects that focus on individuals with intellectual or developmental disabilities.

Waiver of Proposed Rulemaking: Under the Administrative Procedure Act (5 U.S.C. 553), the Department generally offers interested parties the opportunity to comment on proposed priorities. Section 437(d)(1) of GEPA, however, allows the Secretary to exempt from rulemaking requirements regulations governing the first grant competition under a new or substantially revised program authority. This is the first grant competition for this program under the authority given in the Further Consolidated Appropriations Act, 2020, and, therefore, qualifies for this exception. To ensure timely grant awards, the Secretary has decided to forego public comment on the absolute priority under section 437(d)(1) of GEPA. This priority will apply to the FY 21 grant competition and any subsequent year in which we make awards from the list of unfunded applications for this competition.

Program Authority: Further Consolidated Appropriations Act, 2020 (Pub. L. 116-94), 133 Stat. 2590-91.

Note: Projects must be awarded and operated in a manner consistent with the nondiscrimination requirements contained in the U.S. Constitution and the Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards (Uniform Guidance) in 2 CFR part 200, as adopted and amended as regulations of the Department in 2 CFR part 3474.

II. Award Information

Type of Award: Discretionary grants negotiated as cooperative agreements.

Estimated Available Funds: $110,000,000.

Contingent upon the availability of funds and the quality of applications, we may make additional awards in FY 2022 from the list of unfunded applications from this competition.

Estimated Range of Awards: $3,548,387.10 to $18,333,333.33 (frontloaded for the 60-month project period).

Maximum Award: We will not make an award exceeding $18, 333,333.33 for a single budget period of 60 months.

Estimated Number of Awards: 6 (if all awards are made at the estimated maximum amount) to 31 (if all awards are made at the estimated minimum amount).

Note: The Department is not bound by any estimates in this notice.

Project Period: Up to 60 months.

Note: The Final Performance Report must be completed and submitted by the end of the project period, September 30, 2026. Therefore, all project activities (other than work on the evaluation and final performance report) must conclude earlier than 60 months to allow time for the evaluation and final performance report to be completed and submitted by the end of the project period of September 30, 2026.

Note: Applicants under this competition are required to provide detailed budget information for each of the five years of this project and for the total grant.

III. Eligibility Information

1. Eligible Applicants: State VR agencies or State VR agencies applying as a consortium under 34 CFR 75.128.

2. a. Cost Sharing or Matching: This competition does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to the Cost Principles described in 2 CFR part 200 subpart E of the Uniform Guidance.

3. Subgrantees: Under the Further Consolidated Appropriations Act, 2020, a grantee under this competition may award subgrants for a portion of the funds to other public and private, nonprofit entities to directly carry out project activities described in the grantee's application. Under 34 CFR 75.708(e), a grantee may contract for supplies, equipment, and other services in accordance with 2 CFR part 200.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Submission of Proprietary Information: Given the types of projects that may be proposed in applications for the Disability Innovation Fund, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Funding Restrictions: We reference regulations outlining funding restrictions in the Applicable Regulations section of this notice.

5. Recommended Page Limit: The application narrative is where you, the applicant, address the selection criteria that reviewers use to evaluate your application. We recommend that you (1) limit the application narrative to no more than 45 pages and (2) use the following standards:

• A “page” is 8.5″ x 11″, on one side only, with 1” margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to all of the application narrative.

V. Application Review Information

1. Selection Criteria: The selection criteria for this competition are from 34 CFR 75.210 and are as follows:

(a) Need for project and significance of the project (10 points)

(1) The Secretary considers the need for the proposed project and the significance of the proposed project.

(2) In determining the need for the proposed project and the significance of the proposed project, the Secretary considers the following factors:

(i) The national significance of the proposed project.

(ii) The magnitude of the need for the services to be provided or the activities to be carried out by the proposed project.

(iii) The extent to which the proposed project is likely to build local capacity to provide, improve, or expand services that address the needs of target population.

(b) Quality of the project design (20 points)

(1) The Secretary considers the quality of the design of the proposed project.

(2) In determining the quality of the design of the proposed project, the Secretary considers the following factors:

(i) The extent to which the goals, objectives, and outcomes to be achieved by the proposed project are clearly specified and measurable.

(ii) The extent to which the design of the proposed project reflects up-to-date knowledge from research and effective practice.

(iii) The extent to which the results of the proposed project are to be disseminated in ways that will enable others to use the information or strategies.

(iv) The extent to which the proposed project represents an exceptional approach to the priority or priorities established for the competition.

(v) The extent to which performance feedback and continuous improvement are integral to the design of the proposed project.

(c) Quality of project services (20 points)

(1) The Secretary considers the quality of the services to be provided by the proposed project.

(2) In determining the quality of services to be provided by the proposed project, the Secretary considers the quality and sufficiency of strategies for ensuring equal access and treatment for eligible project participants who are members of groups that have traditionally been underrepresented based on race, color, national origin, gender, age, or disability.

(3) In addition, the Secretary considers the following factors:

(i) The extent to which the services to be provided by the proposed project involve the collaboration of appropriate partners for maximizing the effectiveness of project services.

(ii) The extent to which the services to be provided by the proposed project are appropriate to the needs of the intended recipients or beneficiaries of those services.

(iii) The likely impact of the services to be provided by the proposed project on the intended recipients of those services.

(iv) The likelihood that the services to be provided by the proposed project will lead to improvements in skills necessary to gain employment or build capacity for independent living.

(d) Quality of the project evaluation (20 points)

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the methods of evaluation include the use of objective performance measures that are clearly related to the intended outcomes of the project and will produce quantitative and qualitative data to the extent possible.

(iii) The extent to which the evaluation will provide performance feedback and permit periodic assessment of progress toward achieving intended outcomes.

(iv) The extent to which the methods of evaluation will, if well implemented, produce promising evidence (as defined in 34 CFR 77.1(c)) about the project's effectiveness.

(e) Quality of project personnel (15 points)

(1) The Secretary considers the quality of the personnel who will carry out the proposed project.

(2) In determining the quality of project personnel, Secretary considers the extent to which the applicant encourages applications for employment from persons who are members of groups that have traditionally been underrepresented based on race, color, national origin, gender, age, or disability.

(3) In addition, the Secretary considers the following factors:

(i) The qualifications, including relevant training and experience, of the project director or principal investigator.

(ii) The qualifications, including relevant training and experience, of key project personnel.

(iii) The extent to which time commitments of the project director and other key personnel are appropriate and adequate to meet the objectives of the proposed project.

(f) Adequacy of resources (15 points)

(1) The Secretary considers the adequacy of resources for the proposed project.

(2) In determining the adequacy of resources for the proposed project, the Secretary considers the following factors:

(i) The relevance and demonstrated commitment of each partner in the proposed project to the implementation and success of the project.

(ii) The extent to which the costs are reasonable in relation to the number of persons to be served and to the anticipated results and benefits.

(iii) The potential for the incorporation of project purposes, activities, or benefits into the ongoing program of the agency or organization at the end of the Federal funding.

(iv) The adequacy of support, including facilities, equipment, supplies, and other resources, from the applicant organization or the lead applicant organization.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115—232) (2 CFR 200.216);

(c) Promoting the freedom of speech and religious liberty in alignment with Promoting Free Speech and Religious Liberty (E.O. 13798) and Improving Free Inquiry, Transparency, and Accountability at Colleges and Universities (E.O. 13864) (2 CFR 200.300, 200.303, 200.339, and 200.341);

(d) Providing a preference, to the extent permitted by law, to maximize use of goods, products, and materials produced in the United States (2 CFR 200.322); and

(e) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit semiannual and annual performance reports that provide the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection and reporting. In this case, the Secretary establishes a data collection period.

5. Performance Measures: The Government Performance and Results Act of 1993 (GPRA) directs Federal departments and agencies to improve the effectiveness of their programs by engaging in strategic planning, setting outcome-related goals for programs, and measuring program results against those goals.

For the purposes of GPRA and Department reporting under 34 CFR 75.110, we have established the following performance measures for this program:

(a) Of the individuals participating in the project, their average hourly wage at the time they exit in CIE.

(b) Of the individuals participating in the project, their average hours worked per week at the time they exit in CIE.

(c) Of the individuals participating in the project, the number and percentage who exit in CIE with employer-provided medical benefits.

(d) Of the individuals participating in the project, the number and percentage who report their income as the primary source of support at the time they exit in CIE.

(e) Of the individuals participating in the project, the number and percentage who report public benefits (e.g., SSI, SSDI, and/or TANF, and State or local benefits) as their primary source of support at the time they exit in CIE.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Mark Schultz,
Commissioner, Rehabilitation Services Administration, Delegated the authority to perform the functions and duties of the Assistant Secretary for the Office of Special Education and Rehabilitative Services.

[FR Doc. 2021-00149 Filed 1-5-21; 4:15 pm]

BILLING CODE 4000-01-P